SECURITIES AND EXCHANGE COMMISSION

[Release No. 34-77352; SR-NYSEArca-2015-68]

Self-Regulatory Organizations; NYSE Arca, Inc.; Notice of Withdrawal of a Proposed Rule Change Relating To Implementation of a Fee on Securities Lending and Repurchase Transactions With Respect to Shares of the CurrencyShares® Euro Trust and the CurrencyShares® Japanese Yen Trust

March 11, 2016.

On July 30, 2015, NYSE Arca, Inc. (“Exchange”) filed with the Securities and Exchange Commission (“Commission”), pursuant to Section 19(b)(1) of the Securities Exchange Act of 1934 (“Act”) ¹ and Rule 19b-4 thereunder,² a proposed rule change relating to implementation of a fee on securities lending and repurchase transactions with respect to shares of the CurrencyShares® Euro Trust and the CurrencyShares® Japanese Yen Trust, which are currently listed and trading on the Exchange under NYSE Arca Equities Rule 8.202. The proposed rule change was published for comment in the Federal Register on August 20, 2015.³

¹ 15 U.S.C. 78s(b)(1).

² 17 CFR 240.19b-4.

³ See Securities Exchange Act Release No. 75698 (Aug. 14, 2015), 80 FR 50701.

On September 18, 2015, pursuant to Section 19(b)(2) of the Act,⁴ the Commission designated a longer period within which to approve the proposed rule change, disapprove the proposed rule change, or institute proceedings to determine whether to disapprove the proposed rule change.⁵ On November 18, 2016, the Commission instituted proceedings under Section 19(b)(2)(B) of the Act ⁶ to determine whether to approve or disapprove the proposed rule change.⁷ On February 12, 2016, pursuant to Section 19(b)(2) of the Act,⁸ the Commission designated a longer period within which to take action on proceedings to determine whether to approve or disapprove the proposed rule change.⁹ The Commission received one comment on the proposal.¹⁰

⁴ 15 U.S.C. 78s(b)(2).

⁵ See Securities Exchange Act Release No. 75945, 80 FR 57645 (Sept. 24, 2015). The Commission designated a longer period within which to take action on the proposed rule change and designated November 18, 2015, as the date by which it should approve, disapprove, or institute proceedings to determine whether to disapprove the proposed rule change.

⁶ 15 U.S.C. 78s(b)(2)(B).

⁷ See Securities Exchange Act Release No. 76472, 80 FR 73258 (Nov. 24, 2015).

⁸ 15 U.S.C. 78s(b)(2).

⁹ See Securities Exchange Act Release No. 77126, 81 FR 8551 (Feb. 19, 2016). The Commission designated a longer period within which to take action on the proposed rule change and designated April 15, 2016, as the date by which it should approve or disapprove the proposed rule change.

¹⁰ See Letter from George Simon to the Commission (Feb. 23, 2016) (available at http://www.sec.gov/comments/sr-nysearca-2015-68/nysearca201568-1.pdf).

On March 10, 2016, the Exchange withdrew the proposed rule change (SR-NYSEArca-2015-68).

For the Commission, by the Division of Trading and Markets, pursuant to delegated authority.¹¹
¹¹ 17 CFR 200.30-3(a)(57).
Lynn M. Powalski,
Deputy Secretary.

[FR Doc. 2016-05976 Filed 3-16-16; 8:45 am]

BILLING CODE 8011-01-P